DEPARTMENT OF ENERGY

Western Area Power Administration

Interconnection of the Grande Prairie Wind Farm, Holt County, NE

AGENCY: Western Area Power Administration, Department of Energy.

ACTION: Notice of intent to prepare an environmental impact statement and conduct scoping meetings; Notice of potential floodplain and wetlands involvement.

SUMMARY: The Western Area Power Administration (Western), an agency of the Department of Energy (DOE), intends to prepare an environmental impact statement (EIS) on the proposed interconnection of the Grande Prairie Wind Farm (Project) in Holt County, near the city of O'Neill, Nebraska. Grande Prairie Wind, LLC (Grande Prairie Wind), a majority-owned subsidiary of Midwest Wind Energy, LLC, has applied to Western to interconnect their proposed wind energy generation project to Western's power transmission system. Western's Federal action would be to execute an interconnection agreement with Grande Prairie Wind and make any necessary modifications to the transmission system to accommodate the interconnection at Grande Prairie Wind's expense. Western is issuing this notice to inform the public and interested parties about Western's intent to prepare an EIS, conduct a public scoping process, and invite the public to comment on the scope, proposed action, alternatives, and other issues to be addressed in the EIS.

Construction activities proposed by Grande Prairie Wind may affect floodplains and wetlands, so this Notice of Intent (NOI) also serves as a notice of proposed floodplain or wetland action in accordance with DOE floodplain and wetland environmental review requirements.

DATES: The public scoping period begins with the publication of this notice and closes on May 16, 2012. To provide the public an opportunity to review the proposal and project information, Western will hold one public meeting in O'Neill, Nebraska. Western will announce the date and location of the public scoping meeting through local news media, and posting on the Western Web site at http://www.wapa.gov/ugp/Environment/default.htm at least 15 days prior to the meeting. While comments will be accepted at any time during the EIS process, submission of comments by the end of the scoping comment period will ensure full consideration in the Draft EIS.

ADDRESSES: Written comments on the scope of the EIS should be addressed to Mr. Matt Marsh, Western Area Power Administration, P.O. Box 35800, 2900 4th Avenue, North, Billings, MT 59107, fax (406) 255-2900 or email at grandeprairie@wapa.gov.

FOR FURTHER INFORMATION CONTACT: Mr. Matt Marsh, Western Area Power Administration, P.O. Box 35800, 2900 4th Avenue, North, Billings, MT 59107, telephone (406) 255-2811, or email grandeprairie@wapa.gov. For general information on DOE's National Environmental Policy Act (NEPA) review procedures or status of a NEPA review, contact Ms. Carol M. Borgstrom, Director, Office of NEPA Policy and Compliance, GC-54, U.S. Department of Energy, 1000 Independence Avenue SW., Washington, DC 20585, telephone (202) 586-4600 or (800) 472-2756, fax (202) 586-7031.

SUPPLEMENTARY INFORMATION: Western, an agency within DOE, markets Federal hydroelectric power to preference customers, as specified by law. These customers include municipalities, cooperatives, irrigation districts, Federal and State agencies, and Native American tribes. Western's service territory covers 15 western states, including Nebraska. Western owns and operates more than 17,000 miles of high-voltage transmission lines. Western offers capacity to deliver electricity on its transmission system, when such capacity is available, under Western's Open Access Transmission Service Tariff.

Grande Prairie Wind has applied to Western to interconnect their proposed wind energy generation Project to Western's Fort Thompson-Grand Island transmission line. The proposed Project is subject to county and local approvals prior to Project construction.

Grand Prairie Project Description

Grande Prairie Wind proposes to construct and operate a 400-megawatt (MW) wind energy generation facility in Holt County in northern Nebraska. The Project area would occupy approximately 45,000 acres in portions of Willowdale, Antelope, Grattan, Iowa, Scott, and Steel Creek Townships.

Grande Prairie Wind proposes to build up to 266 wind turbines. Permanent disturbance for each wind turbine generator location would be approximately 0.25 acres. Grande Prairie Wind is considering a variety of wind turbine generator types, with capacities ranging from 1.5 to 2.4 MW. Each wind turbine generator would be mounted on a single steel tower between 263 and 329 feet tall and have blade sweep diameter ranging from 271 to 385 feet, depending on the wind turbine generator model selected. Approximate total height at the rotor apex would be between 398 and 521 feet.

Approximately 60 to 80 miles of underground electrical collector cable would be required to carry generated power from each wind turbine generator to a single Project collection substation. The underground collector cables would be buried to a depth that would not interfere with farming operations. The collection substation would occupy about 7 to 15 acres of land. A 6-mile tie-line would be built from the collector substation to a point adjacent to Western's existing Fort Thompson-Grand Island transmission line.

Grande Prairie Wind proposes to build about 45 to 60 miles of new roads and upgrade 30 to 50 miles of existing roads for construction and maintenance access to all turbines and Project facilities. Other Project facilities may include two or more permanent meteorological towers, a SODAR unit, and an operations and maintenance building.

Grande Prairie Wind would site wind turbine generators and supporting infrastructure to optimize wind and land resources in the area while minimizing environmental impacts to the extent practicable. The proposed Project would be located on publicly and privately owned lands consisting of a mix of rural cropland and grazing land. The publicly owned land is owned by the State of Nebraska Board of Education Lands and Funds. Grande Prairie Wind would comply with local zoning requirements, including setbacks from residences, roads, and existing transmission and distribution lines. Grande Prairie Wind proposes to begin construction as early as spring 2014. The life of the Project is anticipated to be a minimum of 20 years.

Western's Federal involvement is related to consideration of the interconnection request, and any resultant impact to the transmission system. However, the EIS will also identify and review the environmental impacts of constructing, operating, maintaining, and decommissioning Grand Prairie Wind's proposed Project. Grand Prairie Wind would be responsible for completing necessary coordination with local agencies to permit its proposed Project.

Proposed Action and Alternatives

Western's proposed Federal action is to execute an interconnection agreement to interconnect the proposed Project to the Federal transmission system at a new substation adjacent to its Fort Thompson-Grand Island 345-kilovolt transmission line. Any modification necessary to accommodate the proposed interconnection with Western's transmission system will be made at Grand Prairie Wind's expense. Western will also consider the no-action alternative in the EIS. Under the no-action alternative, Western would not interconnect the proposed Project. If additional reasonable alternatives are identified during the scoping process, they will be analyzed in the EIS.

Agency Responsibilities

Because interconnection of the proposed Project would incorporate a major new generation resource into Western's power transmission system, Western has determined that an EIS is required under 10 CFR 1021.400(a)(3) and (c), and DOE NEPA implementing procedures (10 CFR part 1021), Appendix D to Subpart D of part 1021, provision D7. Accordingly, Western will prepare an EIS on the interconnection of the proposed Project.¹ Western is the lead Federal agency for preparing the EIS, as defined at 40 CFR 1501.5. Western invites other Federal, State, local, and tribal agencies with jurisdiction by law or special expertise with respect to environmental issues to be cooperating agencies on the EIS, as defined at 40 CFR 1501.6. Such agencies may also make a request to Western to be a cooperating agency by contacting Mr. Marsh at the address listed above in the ADDRESSES section.

¹ On November 16, 2011, DOE's Acting General Counsel delegated to Western's Administrator all EIS authorities.

Western will consult with affected tribes to jointly evaluate and address the potential effects on cultural resources, traditional cultural properties, or other resources important to the tribes. These consultations will be conducted in accordance with Executive Order 13175, Consultation and Coordination with Indian Tribal Governments (65 FR 67249), the President's memorandum of April 29, 1994, Government-to-Government Relations with Native American Tribal Governments (59 FR 22951), DOE-specific guidance on tribal interactions, and applicable natural and cultural resources laws and regulations.

Floodplain or Wetland Involvement

Western's proposed action may affect floodplains or wetlands. This notice also serves as notice of proposed floodplain or wetland action, in accordance with 10 CFR part 1022. The EIS will include an assessment of impacts to floodplains and wetlands, and if required, a statement of findings following DOE regulations for compliance with floodplain and wetlands environmental review (10 CFR part 1022).

Environmental Issues

This notice is to inform agencies and the public of Western's intent to prepare an EIS and solicit comments and suggestions for consideration in the EIS. To help the public frame its comments, the following list contains potential environmental issues preliminarily identified for analysis in the EIS:

• Impacts on protected, threatened, endangered, or sensitive species of animals or plants

• Impacts on migratory birds

• Impacts from noxious weeds, invasive, and non-native species

• Impacts on recreation and transportation

• Impacts on land use and farmland

• Impacts on cultural or historic resources and tribal values

• Impacts on human health and safety

• Impacts on air, soil, and water resources (including air quality and surface water impacts)

• Visual impacts

• Socio-economic impacts and disproportionately high and adverse impacts to minority and low-income populations

This list is not intended to be all-inclusive or to imply any predetermination of impacts. Western invites interested parties to suggest specific issues within these general categories, or other issues not included above, to be considered in the EIS.

Public Participation

Interested parties are invited to participate in the scoping process to help define the scope of the EIS, significant resources, and issues to be analyzed in depth, and to eliminate from detailed study issues that are not pertinent. The EIS scoping process will involve all interested agencies (Federal, State, county, and local), Native American tribes, public interest groups, businesses, affected landowners, and individual members of the public.

Western will hold one public meeting in O'Neill, Nebraska, and will announce the EIS scoping meeting details through local news media, direct mailings, and by posting on the Western Web site at http://www.wapa.gov/ugp/Environment/default.htm at least 15 days prior to the meeting. Attendees will be able to speak directly with Western and Grand Prairie Wind representatives at the EIS scoping meetings about the proposed Project. Attendees are welcome to come and go at their convenience throughout the meeting. If inclement weather should prohibit hosting the scoping meeting, an alternate meeting date and location will be publicized locally. The meeting location is handicapped-accessible. Anyone needing special accommodations should contact Mr. Marsh to make arrangements.

The public is encouraged to provide information and comments on issues it believes Western should address in the EIS. Comments may be broad in nature or restricted to specific areas of concern. After gathering comments on the scope of the EIS, Western will address those issues raised during scoping in the EIS. While comments will be accepted at any time during the EIS process, submission of comments by the end of the scoping comment period will ensure full consideration in the Draft EIS. Comments may be submitted at the public scoping meeting or sent to Western as described under the ADDRESSES section above. Comments received outside of the designated comment periods may be addressed in the Draft EIS; otherwise they will be addressed later in the process, such as in the Final EIS, if practicable.

The EIS process will include this NOI, local EIS scoping meeting notifications, a public scoping meeting; consultation and coordination with appropriate Federal, State, county, and local agencies and tribal governments; involvement with affected landowners; distribution of and public review and comment on the Draft EIS; a formal public hearing or hearings on the Draft EIS; distribution of a published Final EIS; and publication of a Record of Decision in the Federal Register.

Dated: April 6, 2012.
Timothy J. Meeks,
Administrator.

[FR Doc. 2012-9038 Filed 4-13-12; 8:45 am]

BILLING CODE 6450-01-P